DEPARTMENT OF DEFENSE

Defense Acquisition Regulations System

48 CFR Part 252

Defense Federal Acquisition Regulation Supplement; Technical Amendment

AGENCY: Defense Acquisition Regulations System, Department of Defense (DoD).

ACTION: Final rule.

SUMMARY: DoD is making a technical amendment to the Defense Federal Acquisition Regulation Supplement (DFARS) to provide needed editorial changes.

DATES: Effective Date: February 28, 2012.

FOR FURTHER INFORMATION CONTACT: Ms. Ynette Shelkin, Defense Acquisition Regulations System, OUSD (AT&L) DPAP (DARS), Room 3B855, 3060 Defense Pentagon, Washington, DC 20301-3060. Telephone 703-602-8384; facsimile 703-602-7887.

SUPPLEMENTARY INFORMATION: This final rule amends the DFARS as follows:

○ 252.215-7002 Adds the words “compliance with” at paragraph (d)(4)(xii) for clarity.

List of Subjects in 48 CFR Part 252

Government procurement.

Ynette R. Shelkin,
Editor, Defense Acquisition Regulations System.

Therefore, 48 CFR Part 252 is amended as follows:

PART 252—SOLICITATION PROVISIONS AND CONTRACT CLAUSES

1. The authority citation for 48 CFR part 252 continues to read as follows:

Authority: 41 U.S.C. 1303 and 48 CFR chapter 1.

252.215-7002 [Amended]

2. Section 252.215-7002 is amended by removing “including verification of the company's estimating and budgeting policies” and adding “including verification of compliance with the company's estimating and budgeting policies” in its place.

[FR Doc. 2012-4625 Filed 2-27-12; 8:45 am]

BILLING CODE 5001-06-P